INTERNATIONAL TRADE COMMISSION

[Investigation No. 337-TA-839]

Certain Consumer Electronics, Including Mobile Phones and Tablets; Commission Determination Not To Review an Initial Determination Granting a Joint Motion To Terminate the HTC Respondents From the Investigation; Termination of the Investigation

AGENCY: U.S. International Trade Commission.

ACTION: Notice.

SUMMARY: Notice is hereby given that the U.S. International Trade Commission (“the Commission”) has determined not to review an initial determination (“ID”) (Order No. 35) issued by the presiding administrative law judge (“ALJ”) in the above-captioned investigation terminating the last respondents.

FOR FURTHER INFORMATION CONTACT: Michael Liberman, Esq., Office of the General Counsel, U.S. International Trade Commission, 500 E Street SW., Washington, DC 20436, telephone (202) 205-3115. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: This investigation was instituted on April 24, 2012, based on a complaint filed by Pragmatus AV, LLC of Alexandria, Virginia alleging a violation of section 337 in the importation, sale for importation, or sale within the United States after importation of certain consumer electronics, including mobile phones and tablets, by reason of infringement of certain claims of U.S. Patent Nos. 5,854,893; 6,237,025; 7,054,904; 7,185,054; and 7,206,809. 77 FR 24514 (Apr. 24, 2012). The Commission named ASUSTeK Computer, Inc. of Taipei City, Taiwan, ASUS Computer International, Inc. of Fremont, California; HTC Corporation of Taoyuan, Taiwan, HTC America, Inc. of Bellevue, Washington (collectively, “HTC”); LG Electronics, Inc. of Seoul, Republic of Korea, LG Electronics U.S.A., Inc. of Englewood Cliffs, New Jersey, LG Electronics MobileComm U.S.A., Inc. of San Diego, California; Pantech Co., Ltd. of Seoul, Republic of Korea, Pantech Wireless, Inc. of Atlanta, Georgia; Research In Motion Ltd. of Ontario, Canada and Research In Motion Corp. of Irving, Texas; Samsung Electronics Co., Ltd of Seoul, Republic of Korea, Samsung Electronics America, Inc. of Ridgefield Park, New Jersey, and Samsung Telecommunications America, L.L.C. of Richardson, Texas as respondents. Id. The Commission's Office of Unfair Import Investigations (“OUII”) is also a party in this investigation. Id. Subsequently, all respondents other than HTC were terminated from the investigation based on settlement agreements.

On January 22, 2013, complainant and the HTC respondents filed a joint motion to terminate HTC from the investigation based on a settlement. The OUII supported the motion.

On February 4, 2013, the ALJ issued an ID (Order No. 35) granting the motion. The ALJ found that termination of the investigation based on settlement was in the public interest. No party petitioned for review of the ID, and the Commission has determined not to review it. The investigation has been terminated.

The authority for the Commission's determination is contained in section 337 of the Tariff Act of 1930, as amended, 19 U.S.C. 1337, and in sections 210.21 and 210.42(h) of the Commission's Rules of Practice and Procedure, 19 CFR 210.21, 210.42(h).

By order of the Commission.
Issued: February 22, 2013.
Lisa R. Barton,
Acting Secretary to the Commission.

[FR Doc. 2013-04761 Filed 2-28-13; 8:45 am]

BILLING CODE 7020-02-P